DEPARTMENT OF LABOR

Occupational Safety and Health Administration

[Docket No. NRTL1-88]

MET Laboratories, Inc., Renewal and Expansion of Recognition

AGENCY: Occupational Safety and Health Administration (OSHA), Labor.

ACTION: Notice.

SUMMARY: This notice announces the Agency's final decision on the application of MET Laboratories, Inc., for renewal of its recognition as a Nationally Recognized Testing Laboratory, under 29 CFR 1910.7, and the related application of MET Laboratories, Inc., for expansion of its recognition to include additional test standards.

EFFECTIVE DATE: The renewal is effective on May 23, 2002 and will be valid until May 23, 2007, unless terminated or modified prior to that date, in accordance with 29 CFR 1910.7. The renewal incorporates the expansion.

FOR FURTHER INFORMATION CONTACT: Bernard Pasquet or Sherrey Nicolas, Office of Technical Programs and Coordination Activities, NRTL Program, Occupational Safety and Health Administration, U.S. Department of Labor, 200 Constitution Avenue, NW., Room N3653, Washington, DC 20210, or phone (202) 693-2110.

SUPPLEMENTARY INFORMATION:

Notice of Final Decision

The Occupational Safety and Health Administration (OSHA) hereby gives notice of the renewal and expansion of recognition of MET Laboratories, Inc., (MET) as a Nationally Recognized Testing Laboratory (NRTL). MET's expansion covers the use of two additional test standards. The NRTL's scope of recognition may be found in the following OSHA informational web page: http://www.osha-slc.gov/dts/otpca/nrtl/met.html. The information on this page will be updated in the very near future to include the recognitions granted in this notice.

OSHA recognition of an NRTL signifies that the organization has met the legal requirements in §1910.7 of Title 29, Code of Federal Regulations (29 CFR 1910.7). Recognition is an acknowledgment that the organization can perform independent safety testing and certification of the specific products covered within its scope of recognition and is not a delegation or grant of government authority. As a result of recognition, employers may use products “properly certified” by the NRTL to meet OSHA standards that require testing and certification.

The Agency processes applications by an NRTL for initial recognition or for expansion or renewal of this recognition following requirements in Appendix A to 29 CFR 1910.7. This appendix requires that the Agency publish two notices in the Federal Register in processing an application. In the first notice, OSHA announces the application and provides its preliminary finding and, in the second notice, the Agency provides its final decision on the application. These notices set forth the NRTL's scope of recognition or modifications of that scope. We maintain an informational web page for each NRTL, which details its scope of recognition. These pages can be accessed from our web site at http://www.osha-slc.gov/dts/otpca/nrtl/index.html.

MET Laboratories, formerly known as MET Electrical Testing Company, applied to OSHA for recognition as a Nationally Recognized Testing Laboratory in April 1988. On May 16, 1989 (54 FR 21136), it received this initial recognition. MET applied for its first renewal in August 1993, which OSHA announced, along with other MET applications on August 6, 1996 (61 FR 41661) and granted on November 20, 1996 (61 FR 59114). The Agency granted MET's renewal for a period of five years ending on November 20, 2001.

Appendix A to 29 CFR 1910.7 stipulates that the period of recognition of an NRTL is five years and that an NRTL may renew its recognition by applying not less than nine months, nor more than one year, before the expiration date of its current recognition. MET submitted a request, dated February 9, 2001 (see Exhibit 28), to renew its recognition within the time allotted, and MET retains its recognition pending OSHA's final decision in this renewal process. MET's existing scope of recognition consists of the facility already recognized and the supplemental programs, as listed below, and the test standards listed under Renewal of Recognition below.

MET also submitted a request, dated February 13, 2002 (see Exhibits 28-1), to expand its recognition to include the two additional test standards listed below. The OSHA NRTL Program staff determined that the two test standards, listed below under Expansion of Recognition, are appropriate within the meaning of 29 CFR 1910.7(c) and can be included in MET's scope of recognition. The staff makes such determinations in processing applications from any NRTL.

In processing MET's renewal request, OSHA NRTL Program staff performed an on-site review of MET's facility on October 1 and 3, 2001. In the on-site review report (see Exhibit 29), the staff recommended a “positive finding,” which means a positive recommendation to the Assistant Secretary regarding the renewal. In processing MET's expansion request to include the additional standards, OSHA NRTL Program staff did not perform an on-site review but reviewed documentation pertinent to the request and in a memo (see Exhibit 29-1) recommended the expansion of MET's recognition to include the additional test standards listed below.

OSHA published the required notice in the Federal Register on April 11, 2002 (67 FR 17722), to announce MET's renewal and expansion requests. This notice included a preliminary finding that MET could meet the requirements in 29 CFR 1910.7 for renewal and expansion of its recognition and invited public comment by April 26, 2002. OSHA received no comments concerning this notice.

The previous notice published by OSHA for MET's recognition covered an expansion of recognition to include additional standards, which became effective on September 26, 2001 (66 FR 49211). The other Federal Register notices related to MET's recognition that OSHA has published since MET's previous renewal addressed an expansion for additional standards, which OSHA announced on November 10, 1998 (63 FR 63085) and granted on March 9, 1999 (64 FR 11502). The renewal incorporates all of these recognitions granted to MET, including the expansion being granted in this notice.

You may obtain or review copies of all public documents pertaining to the MET applications by contacting the Docket Office, Occupational Safety and Health Administration, U.S. Department of Labor, 200 Constitution Avenue, NW., Room N2625, Washington, DC 20210. You should refer to Docket No. NRTL1-88, the permanent record of public information on the MET recognition.

The current address of the MET facility (site) already recognized by OSHA is: MET Laboratories, Inc., 914 West Patapsco Avenue, Baltimore, Maryland 21230.

Programs and Procedures

The renewal of recognition includes MET's continued use of the following supplemental programs and procedures based upon the criteria detailed in the March 9, 1995 Federal Register notice (60 FR 12980, 3/9/95). This notice lists nine (9) programs and procedures (collectively, programs), eight of which an NRTL may use to control and audit, but not actually to generate, the data relied upon for product certification. An NRTL's initial recognition will always include the first or basic program, which requires that all product testing and evaluation be performed in-house by the NRTL that will certify the product. OSHA has already recognized MET for these programs. See http://www.osha-slc.gov/dts/otpca/nrtl/met.html.

Program 2: Acceptance of testing data from independent organizations, other than NRTLs.

Program 3: Acceptance of product evaluations from independent organizations, other than NRTLs.

Program 4: Acceptance of witnessed testing data.

Program 5: Acceptance of testing data from non-independent organizations.

Program 6: Acceptance of evaluation data from non-independent organizations (requiring NRTL review prior to marketing).

Program 7: Acceptance of continued certification following minor modifications by the client.

Program 8: Acceptance of product evaluations from organizations that function as part of the International Electrotechnical Commission Certification Body (IEC-CB) Scheme.

Program 9: Acceptance of services other than testing or evaluation performed by subcontractors or agents.

OSHA developed these programs to limit how an NRTL may perform certain aspects of its work and to permit the activities covered under a program only when the NRTL meets certain criteria. In this sense, they are special conditions that the Agency places on an NRTL's recognition. OSHA does not consider these programs in determining whether an NRTL meets the requirements for recognition under 29 CFR 1910.7. However, these programs help to define the scope of that recognition.

Final Decision and Order

The NRTL Program staff has examined the applications, the assessor's report and memo, and other pertinent information. Based upon this examination and the assessor's recommendations, OSHA finds that MET Laboratories, Inc., has met the requirements of 29 CFR 1910.7 for renewal and expansion of its NRTL recognition. The renewal and expansion apply to the site listed above. In addition, the renewal and expansion cover the test standards listed below and are subject to the limitations and conditions, also listed below. Pursuant to the authority in 29 CFR 1910.7, OSHA hereby renews and expands the recognition of MET, subject to these limitations and conditions.

Limitations

Renewal of Recognition

OSHA limits the renewal of recognition of MET to the site listed above. OSHA further limits the renewal of recognition of MET to testing and certification of products for demonstration of conformance to the following 102 test standards, which OSHA has previously recognized for MET. Except as explained below (see paragraph immediately following listing of standards), all these standards are “appropriate,” within the meaning of 29 CFR 1910.7(c).

ANSI C12.1 Code for Electricity Meters

ANSI/IEEE C57.13 Terminology and Test Code for Instrument Transformers

ANSI/UL 5 Surface Metal Raceways and Fittings

ANSI/UL 22 Electric Amusement Machines

UL 45 Portable Electric Tools

ANSI/UL 50 Enclosures for Electrical Equipment

ANSI/UL 65 Electric Wired Cabinets

ANSI/UL 73 Electric Motor-Operated Appliances

ANSI/UL 122 Electric Photographic Equipment

ANSI/UL 130 Electric Heating Pads

ANSI/UL 153 Portable Electric Lamps

ANSI/UL 187 X-Ray Equipment

ANSI/UL 197 Commercial Electric Cooking Appliances

ANSI/UL 201 Garage Equipment

ANSI/UL 231 Electrical Power Outlets

UL 416 Refrigerated Medical Equipment

ANSI/UL 469 Musical Instruments and Accessories

ANSI/UL 471 Commercial Refrigerators and Freezers

ANSI/UL 482 Portable Sun/Heat Lamps

ANSI/UL 484 Room Air Conditioners

ANSI/UL 499 Electric Heating Appliances

UL 506 Specialty Transformers

ANSI/UL 507 Electric Fans

ANSI/UL 508 Electric Industrial Control Equipment

ANSI/UL 514A Metallic Outlet Boxes, Electrical

UL 544 Electric Medical and Dental Equipment

UL 664 Commercial Dry-Cleaning Machines (Type IV)

ANSI/UL 676 Underwater Lighting Fixtures

ANSI/UL 698 Industrial Control Equipment for Use in Hazardous (Classified) Locations

ANSI/UL 705 Power Ventilators

UL 745-1 Portable Electric Tools

UL 745-2-1 Particular Requirements of Drills

UL 745-2-2 Particular Requirements for Screwdrivers and Impact Wrenches

UL 745-2-3 Particular Requirements for Grinders, Polishers, and Disk-Type Sanders

UL 745-2-4 Particular Requirements for Sanders

UL 745-2-5 Particular Requirements for Circular Saws and Circular Knives

UL 745-2-6 Particular Requirements for Hammers

UL 745-2-8 Particular Requirements for Shears and Nibblers

UL 745-2-9 Particular Requirements for Tappers

UL 745-2-11 Particular Requirements for Reciprocating Saws

UL 745-2-12 Particular Requirements for Concrete Vibrators

UL 745-2-14 Particular Requirements for Planers >

UL 745-2-17 Particular Requirements for Routers and Trimmers

UL 745-2-30 Particular Requirements for Staplers

UL 745-2-31 Particular Requirements for Diamond Core Drills

UL 745-2-32 Particular Requirements for Magnetic Drill Presses

UL 745-2-33 Particular Requirements for Portable Bandsaws

UL 745-2-34 Particular Requirements for Strapping Tools

UL 745-2-35 Particular Requirements for Drain Cleaners

UL 745-2-36 Particular Requirements for Hand Motor Tools

UL 745-2-37 Particular Requirements for Plate Jointers

ANSI/UL 751 Vending Machines

UL 763 Motor-Operated Commercial Food Preparing Machines

UL 775 Graphic Arts Equipment

ANSI/UL 813 Commercial Audio Equipment

ANSI/UL 859 Personal Grooming Appliances

UL 869A Standard for Service Equipment

ANSI/UL 886 ** Outlet Boxes and Fittings for Use in Hazardous (Classified) Locations

* Testing and certification of products under this test standard is limited to Class I locations. Explosion testing is also limited to current test chamber capabilities.

ANSI/UL 913 Intrinsically Safe Apparatus and Associated apparatus for Use in Class I, II, and III, Division 1, Hazardous Locations

ANSI/UL 923 Microwave Cooking Appliances

UL 935 Fluorescent-Lamp Ballasts

ANSI/UL 982 Motor-Operated Household Food Preparing Machines

ANSI/UL 1012 Power Supplies

ANSI/UL 1017 Vacuum Cleaning Machines and Blower Cleaners

ANSI/UL 1018 Electric Aquarium Equipment

UL 1026 Electric Household Cooking and Food Serving Appliances

UL 1028 Hair Clipping and Shaving Appliances

ANSI/UL 1042 Electric Baseboard Heating Equipment

ANSI/UL 1054 Special-Use Switches

ANSI/UL 1069 Hospital Signaling and Nurse-Call System

UL 1083 Household Electric Skillets and Frying-Type Appliances

ANSI/UL 1203* Explosion-Proof and Dust-Ignition-Proof Electrical Equipment for Use in Hazardous (Classified) Locations

UL 1236 Battery Chargers for Charging Engine-Starter Batteries

UL 1244 Electrical and Electronic Measuring and Testing Equipment

UL 1248 Engine-Generator Assemblies for Use in Recreational Vehicles

ANSI/UL 1262 Laboratory Equipment

ANSI/UL 1270 Radio Receivers, Audio Systems, and Accessories

ANSI/UL 1310 Direct Plug-In Transformer Units

ANSI/UL 1409 Low-Voltage Video Products Without Cathode-Ray-Tube Displays

ANSI/UL 1410 Television Receivers and High-Voltage Video Products

ANSI/UL 1411 Transformers and Motor Transformers for Use in Audio-, Radio-, and Television-Type Appliances

UL 1431 Personal Hygiene and Health Care Appliances

UL 1449 Transient Voltage Surge Suppressors

UL 1459 Telephone Equipment

UL 1492 Audio-Video Products and Accessories

ANSI/UL 1570 Fluorescent Lighting Fixtures

ANSI/UL 1571 Incandescent Lighting Fixtures

UL 1598 Luminaries

ANSI/UL 1573 Stage and Studio Lighting Units

UL 1585 Class 2 and Class 3 Transformers

UL 1604 Electrical Equipment for Use In Class I and II, Division 2, and Class III Hazardous (Classified) Locations

ANSI/UL 1638 Visual Signaling Appliances—Private Mode Emergency and General Utility Signaling

ANSI/UL 1647 Motor-Operated Massage and Exercise Machines

UL 1778 Uninterruptible Power Supply Equipment

UL 1786 Nightlights

UL 1950 Safety of Information Technology Equipment, Including Electrical Business Equipment

UL 1993 Self-Ballasted Lamps and Lamp Adapters

UL 1995 Heating and Cooling Equipment

UL 2601-1 Medical Electrical Equipment, Part 1: General Requirements for Safety

UL 3101-1 Electrical Equipment for Laboratory Use; Part 1: General Requirements

UL 3111 Electrical Measuring and Test Equipment; Part 1: General Requirements

UL 6500 Audio/Visual and Musical Instrument Apparatus for Household, Commercial, and Similar General Use

Note: Testing and certification of gas operated equipment is limited to Class I to equipment for use with “liquefied petroleum gas” (“LPG” or “LP-Gas”)

At the time of preparation of the preliminary notice, some of the test standards for which OSHA currently recognizes MET, and which are listed above, have been withdrawn or replaced by the standards developing organization. Under OSHA policy regarding such withdrawn or replaced test standards, OSHA can no longer recognize the NRTL for the test standards, but the NRTL may request recognition for comparable test standards, i.e., other appropriate test standards covering similar types of product testing. However, a number of other NRTLs also are recognized for these withdrawn or replaced standards. As a result, OSHA will publish a separate notice to make the appropriate substitutions for MET and the other NRTLs that were recognized for these standards.

OSHA's recognition of MET, or any NRTL, for a particular test standard is limited to equipment or materials (i.e., products) for which OSHA standards require third party testing and certification before use in the workplace. Consequently, an NRTL's scope of recognition excludes any product(s) falling within the scope of a test standard for which OSHA has no NRTL testing and certification requirements.

Many of the test standards listed above, and listed later in this notice, are approved as American National Standards by the American National Standards Institute (ANSI). However, for convenience in compiling the list, we use the designation of the standards developing organization (e.g., UL 1012) for the standard, as opposed to the ANSI designation (e.g., ANSI/UL 1012). Under our procedures, an NRTL recognized for an ANSI-approved test standard may use either the latest proprietary version of the test standard or the latest ANSI version of that standard, regardless of whether it is currently recognized for the proprietary or ANSI version. Contact ANSI or the ANSI web site (http://www.ansi.org) and click “NSSN” to find out whether or not a test standard is currently ANSI-approved.

Expansion of Recognition

OSHA limits the expansion to testing and certification of products for demonstration of conformance to the following two test standards, and, as indicated above, OSHA has determined the standards are “appropriate.”

UL 924 Emergency Lighting and Power Equipment

UL 1008 Transfer Switch

Conditions

MET Laboratories, Inc., must also abide by the following conditions of the recognition, in addition to those already required by 29 CFR 1910.7:

OSHA must be allowed access to the MET facility and records for purposes of ascertaining continuing compliance with the terms of its recognition and to investigate as OSHA deems necessary;

If MET has reason to doubt the efficacy of any test standard it is using under this program, it must promptly inform the organization that developed the test standard of this fact and provide that organization with appropriate relevant information upon which its concerns are based;

MET must not engage in or permit others to engage in any misrepresentation of the scope or conditions of its recognition. As part of this condition, MET agrees that it will allow no representation that it is either a recognized or an accredited Nationally Recognized Testing Laboratory (NRTL) without clearly indicating the specific equipment or material to which this recognition is tied, or that its recognition is limited to certain products;

MET must inform OSHA as soon as possible, in writing, of any change of ownership, facilities, or key personnel, and of any major changes in its operations as an NRTL, including details;

MET will continue to meet all the terms of its recognition and will always comply with all OSHA policies pertaining to this recognition; and MET will continue to meet the requirements for recognition in all areas where it has been recognized.

Signed at Washington, DC this 14th day of May, 2002.
John L. Henshaw,
Assistant Secretary.

[FR Doc. 02-12957 Filed 5-22-02; 8:45 am]

BILLING CODE 4510-26-P